DEPARTMENT OF TRANSPORTATION

Federal Transit Administration

[Docket No. FTA-2005-23082]

RIN 2132-AA90

Buy America: Notice of Public Meeting and Agenda

AGENCY: Federal Transit Administration (FTA), DOT.

ACTION: Notice announcing public meeting agenda and conference call capability.

SUMMARY: On January 17, 2007, the Federal Transit Administration (FTA) announced a public meeting regarding the Buy America second notice of proposed rulemaking (SNPRM) to allow the public to ask questions regarding the SNPRM published on November 30, 2006. In the public meeting notice, FTA also extended the comment period to February 28, 2007, to allow affected parties time to carefully consider the changes made in the SNRM and the information presented at the public meeting. This Notice announces the agenda for the public meeting, and a conference call number for interested parties who cannot attend in person.

DATES: FTA will hold a public meeting on February 13 and 14, 2007 from 9 a.m. to 4:30 p.m. at the Department of Transportation (DOT) headquarters building (400 7th Street, SW., Washington, DC 20590, Room 2201). Individuals interested in attending the meeting should arrive at the southwest entrance of the DOT building to go through security screening. Please allow a minimum of 15 minutes to clear security. A summary of the meeting will be posted in the docket. FTA will not accept public comment during the public meeting. Instead, interested parties must submit their comments to the docket in order to have their comments considered by FTA.

ADDRESSES: You may submit comments identified by the docket number [FTA-2005-23082] by any of the following methods:

1. Web site: http://dms.dot.gov. Follow the instructions for submitting comments on the DOT electronic docket site.

2. Fax: 202-493-2251.

3. Mail: Docket Management Facility; U.S. Department of Transportation, 400 Seventh Street, SW., Nassif Building, PL-401, Washington, DC 20590-0001.

4. Hand Delivery: Room PL-401 on the plaza level of the Nassif Building, 400 Seventh Street, SW., Washington, DC, between 9 a.m. and 5 p.m., Monday through Friday, except Federal holidays.

Instructions: you must include the agency name (Federal Transit Administration) and Docket number (FTA-2005-23082) for this Notice at the beginning of your comments. You should submit two copies of your comments if you submit them by mail. If you wish to receive confirmation that FTA received your comments, you must include a self-addressed stamped postcard. Note that all comments received will be posted, without change, to http://dms.dot.gov including any personal information provided and will be available to Internet users. You may review DOT's complete Privacy Act Statement in the Federal Register published on April 11, 2000 (65 FR 19477) or you may visit http://dms.dot.gov.

Docket: For access to the docket to read background documents and comments received, go to http://dms.dot.gov at any time or to Room PL-401 on the plaza level of the Nassif Building, 400 Seventh Street, SW., Washington, DC between 9 a.m. and 5 p.m., Monday through Friday, except Federal holidays.

FOR FURTHER INFORMATION CONTACT: Richard Wong, Attorney-Advisor, Office of the Chief Counsel, Federal Transit Administration, 400 Seventh Street, SW., Room 9316, Washington, DC 20590, (202) 366-4011 or Richard.Wong@dot.gov.

SUPPLEMENTARY INFORMATION: On January 17, 2007, FTA published a Notice of Public Meeting in the Federal Register (72 FR 1976) in which FTA offered to allow the public to ask questions regarding FTA's second notice of proposed rulemaking (SNPRM) that was published in the Federal Register on November 30, 2006 (71 FR 69411).

Interested parties who would like to participate in the public meeting but cannot be physically present are invited to use FTA's conference call number at 1-888-603-8914 and to enter the passcode “53081” when prompted. Up to 50 conference call attendees may participate at the same time. Conference call attendees may join and exit the conference call at any time during the public meeting.

The meeting will begin with a brief outline of the SNPRM, followed by in-depth thirty-minute discussion sessions during which FTA will entertain questions on the six key issues proposed in the SNPRM. Any questions not addressed on the first day will be answered on the second. The agenda for the public meeting is as follows:

Agenda

Tuesday, February 13, 2007

9:30 a.m. Introduction & Welcome

9:45 a.m. Brief Overview of Regulatory History—statutory requirements, initial Notice of Proposed Rulemaking, partial Final Rule, Second Notice of Proposed Rulemaking.

10 a.m. Brief Summary of FTA's Proposals.

10:15 a.m. Discussion on Public Interest Waivers.

10:45 a.m. Discussion on Microprocessor Waivers.

11:15 a.m. Discussion on Post-Award Waivers.

11:45 a.m.-1:15 p.m. Lunch on your own.

1:15 p.m. Discussion on “End Products” and “Systems”.

1:45 p.m. Discussion on “Final Assembly”.

2:15 p.m. Discussion on Lists of Communications, Train Control, and Traction Power Equipment.

2:45 p.m. Break.

3 p.m. Resume Discussions.

4:30 p.m. Adjournment.

Wednesday, February 14, 2007 (if necessary)

9:30 a.m. Summary of Previous Day's Presentations.

10 a.m. Responses to Additional Questions.

11:45 a.m.-1:15 p.m. Lunch on your own.

1:15 p.m. Resume Responses to Questions.

2:45 p.m. Break.

3 p.m. Resume responses to Questions.

4:30 p.m. Final Adjournment.

Issued this 6th day of February, 2007.
James S. Simpson,
Administrator.

[FR Doc. 07-612 Filed 2-7-05; 1:14 pm

BILLING CODE 4910-57-M